DEPARTMENT OF VETERANS AFFAIRS

National Commission on VA Nursing; Notice of Meeting

The Department of Veterans Affairs (VA) gives notice under Public Law 92-463 (Federal Advisory Committee Act) that the National Commission on VA Nursing will hold a meeting on September 24-25, 2003, at the Hyatt Regency Crystal City, 2799 Jefferson Davis Highway, Arlington, VA 22202. On September 24, the meeting will begin at 8:30 a.m. and adjourn at 5 p.m. On September 25, the meeting will begin at 8 a.m. and adjourn at 2:30 p.m. The meeting is open to the public.

The purpose of the Commission is to provide advice and make recommendations to Congress and the Secretary of Veterans Affairs regarding legislative and organizational policy changes to enhance the recruitment and retention of nurses and other nursing personnel in VA. The Commission is required to submit to Congress and the Secretary of Veterans Affairs a report, not later than two years from May 8, 2002, on its findings and recommendations.

On September 24, the Commission will discuss its final report, analyze key drivers of staff satisfaction/retention, and determine who should review the final Commission report. On September 25, the Commission will discuss recommendations for its final report.

No time will be allocated at this meeting for receiving oral presentations from the public. However, members of the public may direct written questions or submit prepared statements for review by the Commission in advance of the meeting, to Ms. Oyweda Moorer, Director of the National Commission on VA Nursing, at the Department of Veterans Affairs (108N), 810 Vermont Avenue, NW, Washington, DC 20420. Any member of the public wishing to attend the meeting should contact Ms. Stephanie Williams, Program Analyst, at (202) 273-4944.

Dated: September 5, 2003.
By Direction of the Secretary.
E. Philip Riggin,
Committee Management Officer.

[FR Doc. 03-23262 Filed 9-11-03; 8:45 am]

BILLING CODE 8320-01-M